DEPARTMENT OF TRANSPORTATION

Federal Aviation Administration

Notice of Intent To Prepare an Environmental Impact Statement and Hold Scoping Meetings for Palm Beach International Airport (PBI), West Palm Beach, FL

AGENCY: Federal Aviation Administration (FAA), Department of Transportation (DOT).

ACTION: Notice of Intent to prepare an Environmental Impact Statement and to hold one (1) public scoping meeting and one (1) Governmental and Public agency scoping meeting.

SUMMARY: The Federal Aviation Administration (FAA) is issuing this notice to advise the public it will prepare an Environmental Impact Statement (EIS) to address development of proposed airfield improvements at Palm Beach International Airport (PBI), West Palm Beach, Florida. To ensure the FAA identifies all significant issues related to the proposed action, the FAA will hold one (1) public scoping meeting and one (1) governmental and public agency scoping meeting.

FOR FURTHER INFORMATION CONTACT: Linda McDowell, Environmental Specialist, Federal Aviation Administration, Orlando Airports District Office, 5950 Hazeltine National Drive, Suite 400, Orlando, FL 32822, Phone (407) 812-6331 Ext. 130, Fax: (407) 812-6978, E-mail lindy.mcdowell@faa.gov.

Comments on the scope of the EIS should be submitted to the address above and must be received no later than March 27, 2007.

SUPPLEMENTARY INFORMATION: PBI is a commercial service airport located within Palm beach County, West Palm Beach, Florida. In 2005, PBI served seven million passengers and supported 166,000 aircraft operations. The airport sponsor requests FAA approval and funding for the following airfield improvements at PBI: relocate, lengthen, and widen Runway 9R-27L, shorten Runway 13-31, construct associated taxiway improvements, and relocate the Very High Frequency Omni-Directional Radio Range (VOR) facility. Specifically, the airport sponsor proposes to relocate Runway 9R-27L 100 feet south from its current location, lengthen the runway to 8,000 feet, and widen the runway to 150 feet.

The FAA will independently prepare an EIS to asses the impacts associated with the referenced proposed improvements at PBI. The alternatives to be evaluated in the EIS will include the No-Action alternative, and the Proposed Action Alternative and may also include other alternatives developed during the EIS process. The FAA will prepare the EIS in accordance with FAA Orders 1050.1E, Environmental Impacts: Policies and Procedures, and 5050.4B, National Environmental Policy Act (NEPA) Implementing Instructions for Airport Actions.

Comments and suggestions are invited from Federal, state, and local agencies, and other interested parties to ensure that the full range of actions, alternatives, and impacts related to the proposed development are considered and that all significant issues are identified and disclosed. Written comments and suggestions concerning the scope of the EIS may be mailed to the FAA informational contact listed above and must be received no later than March 27, 2007. If, during development of the draft EIS, it is determined that the proposed project would not result in significant impacts, the FAA may terminate the EIS and complete the NEPA process using an Environmental Assessment.

Public and Agency Scoping Meetings: The FAA will hold one (1) public and one (1) governmental agency scoping meeting to solicit input from the public and various Federal, state, and local agencies which have jurisdiction by law or have specific expertise with respect to any environmental impacts associated with the proposed project. The public and governmental agency scoping meetings will be held February 27, 2007 at the Hilton Palm Beach Airport, West Palm Beach, FL. The public meeting will be held from 5 p.m. to 8 p.m. The governmental agency scoping meeting will be held from 1 p.m. to 3 p.m. and is specifically for governmental agencies. Interested parties may confirm the meeting date and location with the FAA informational contact listed above.

Issued in Orlando, Florida on January 19, 2007.
W. Dean Stringer,
Manager, Orlando Airports District Office, FAA, Southern Region.

[FR Doc. 07-322 Filed 1-25-07; 8:45 am]

BILLING CODE 4910-13-M